DEPARTMENT OF ENERGY

Federal Energy Regulatory Commission

[Project No. 2305-036]

Sabine River Authority of Texas and Sabine River Authority, State of Louisiana; Notice of Availability of the Final Environmental Impact Statement for the Toledo Bend Hydroelectric Project

In accordance with the National Environmental Policy Act of 1969 and the Federal Energy Regulatory Commission (Commission or FERC) regulations contained in the Code of Federal Regulations (CFR) (18 CFR part 380), the Office of Energy Projects has reviewed the application for license for the Toledo Bend Hydroelectric Project (FERC No. 2305) and has prepared a final environmental impact statement (EIS) for the project.

The existing project is located on the Sabine River between river mile (RM) 147 and RM 279, affecting lands and waters in Panola, Shelby, Sabine, and Newton Counties, Texas, and De Soto, Sabine, and Vernon Parishes, Louisiana. The project occupies lands within the Sabine National Forest in Texas and the Indian Mounds Wilderness Area, administered by the U.S. Department of Agriculture—Forest Service.

The final EIS contains staff's analysis of the applicants' proposals and the alternatives for relicensing the Toledo Bend Project. The final EIS documents the views of governmental agencies, non-governmental organizations, affected Indian tribes, the public, the license applicants, and Commission staff.

A copy of the final EIS is available for review at the Commission or may be viewed on the Commission's Web site at http://www.ferc.gov, using the “e-Library” link. Enter the docket number, excluding the last three digits, to access the document. For assistance, contact FERC Online Support at FERCOnlineSupport@ferc.gov or toll-free at (866) 208-3676, or for TTY, contact (202) 502-8659.

You may also register online at http://www.ferc.gov/docs-filing/esubscription.asp to be notified via email of new filings and issuances related to this or other pending projects. For assistance, contact FERC Online Support.

For further information, please contact Alan Mitchnick at (202) 502-6074 or at alan.mitchnick@ferc.gov.

Dated: December 20, 2013.
Kimberly D. Bose,
Secretary.

[FR Doc. 2013-31081 Filed 12-27-13; 8:45 am]

BILLING CODE 6717-01-P